DEPARTMENT OF ENERGY

Notice of Call for Nominations for Appointment to the Electricity Advisory Committee

AGENCY: Office of Electricity, Department of Energy.

ACTION: Notice; call for nominations.

SUMMARY: This notice constitutes an open call to the public to submit nominations for membership on the Electricity Advisory Committee.

DATES: Nominations will accepted through Friday, April 19, 2024.

ADDRESSES: Office of Electricity, U.S. Department of Energy, 1000 Independence Ave., Room 7H-073, Attn: Ms. Jayne Faith, Designated Federal Officer, Washington, DC 20585.

FOR FURTHER INFORMATION CONTACT: Ms. Jayne Faith, Designated Federal Officer, Office of Electricity, U.S. Department of Energy, Washington, DC 20585; Telephone: (202) 586-2983 or Email: Jayne.Faith@hq.doe.gov.

SUPPLEMENTARY INFORMATION: The Department of Energy's Office of Electricity is accepting nominations through April 19, 2024, for appointment to the Electricity Advisory Committee (EAC). The EAC was established in accordance with the provisions of the Federal Advisory Committee Act (FACA), as amended, to provide advice to the U.S. Department of Energy (DOE) in implementing the Energy Policy Act of 2005, executing certain sections of the Energy Independence and Security Act of 2007, and modernizing the nation's electricity delivery infrastructure.

The EAC advises the Assistant Secretary for the Office of Electricity on a broad range of issues regarding electricity. The specific duties of the EAC are to:

a. Advise DOE on current and future electric grid resilience, security, reliability, sector interdependence, and policy issues of concern;

b. Periodically review and make recommendations on DOE electric grid-related programs and initiatives, including electricity-related R&D programs and modeling efforts;

c. Identify emerging issues related to production, delivery, end-use, reliability, security, resilience, modeling and electric utility regulation, and make recommendations, if appropriate, concerning DOE policy and initiatives;

d. Make recommendations on how DOE can address the growing interdependence of and risk to critical and defense critical electric infrastructure and other critical sectors such as defense, communications, and transportation;

e. Advise on coordination between DOE, State, Tribal, Territorial, and regional officials and the private sector on matters affecting production, delivery, end-use, reliability, resilience, security, and electric utility regulation;

f. Advise on coordination between Federal, State, Tribal, Territorial, and regional officials and the private sector in the event of supply disruption or other emergencies related to electricity transmission, generation, and distribution; and

g. Make recommendations to the Department on how to best implement programs or policies directly affecting all components of the electric grid and its operations, as appropriate.

Additional information on the Office of Electricity may be found at https://www.energy.gov/oe/office-electricity and additional information on the EAC and its activities may be found at https://www.energy.gov/oe/electricity-advisory-committee-eac.

Nominees with strong technical knowledge and expertise within the electricity sector are preferred. This includes, but is not limited to expertise in energy reliability, grid edge, utilities, reliability, energy distribution, energy storage, clean energy, cybersecurity, tribal energy, and infrastructure.

The Secretary of Energy appoints members of the committee. Members will be selected to achieve a balanced representation of viewpoints, technical expertise and experience, established records of distinguished professional service, and their knowledge of issues that pertain to the electric sector. Per Executive Order 13985, “Advancing Racial Equity and Support for Underserved Communities Through the Federal Government” (Jan. 20, 2021), other factors to be considered for Committee membership include demographic, professional, and experiential diversity. In addition, the Secretary will strive for the Committee to reflect the principles of inclusion, equity, and diversity, and to ensure that the Committee's recommendations strive for equitable distribution of benefits for all Americans, including people of color and others who have been historically underserved, marginalized, and adversely affected by persistent poverty and inequality. The Secretary also will strive for geographic diversity in the composition of the Committee.

No member may be a registered Federal lobbyist, pursuant to the Lobbying Disclosure Act of 1995 (codified at 2 U.S.C. 1601 et seq.).

Terms will be two (2) years from the appointment date. Members are selected in accordance with FACA requirements and serve on an uncompensated, volunteer basis. However, members may be reimbursed in accordance with the Federal Travel Regulations for per diem and travel expenses incurred while attending Committee meetings.

Any person or organization may nominate qualified individuals for membership. Self-nominations are also welcome. Nominations should be submitted electronically to Ms. Jayne Faith, Designated Federal Officer at Jayne.Faith@hq.doe.gov or via U.S. Mail at the address above. Nominations must include the nominee's full name, current occupation, position, daytime telephone number, and email address along with a summary of the nominee's qualifications that identifies, how his or her education, training, experience, expertise, or other factors would support the EAC's work. Each nomination should also include a short biography or curriculum vitae.

Signing Authority: This document of the Department of Energy was signed on March 19, 2024, by David Borak, Deputy Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 20, 2024.
Treena V. Garrett,
Federal Register Liaison Officer, U.S. Department of Energy.

[FR Doc. 2024-06213 Filed 3-22-24; 8:45 am]

BILLING CODE 6450-01-P